SOCIAL SECURITY ADMINISTRATION

Statement of Organization, Functions and Delegations of Authority

This statement amends Part S of the Statement of the Organization, Functions and Delegations of Authority which covers the Social Security Administration (SSA). This notice reflects the realignment of functions within three divisions in the Office of Disability and Supplemental Security Income Systems in the Deputy Commissioner for Systems. It also retitles and redescribes the functions of a division. The new material and changes are as follows:

Subchapter S4R

Office of Disability and Supplemental Security Income Systems

Section S4R.10 The Office Disability and Supplemental Security Income Systems—(Organization):

Retitle F., the Division of SSI Information Systems (S4RC), to the Division of Management Information Systems (S4RC).

Section S4R.20 The Office of Disability and Supplemental Security Income Systems—(Functions):

E. The Division of SSI Management Systems (S4RB)

Delete “internal” from the first sentence of paragraph #1 after the words “including payment,”.

Add an “s” after the word “interface” in the first sentence of paragraph #1.

Add “notices, queries” to the first sentence of paragraph #1 after the words “due process,” and before the words “and redetermination operations.”

Add “notices, queries,” to the second sentence of paragraph #3 after the word “interfaces,” and before the words “due process.”

Delete “internal” from paragraph #5 after the word “redeterminations,” and before the word “interfaces.”

Add “queries,” to paragraph #5 after the word “interfaces,” and before the words “due process.”

Retitle F, the Division of SSI Information Systems (S4RC) to the Division of Management Information Systems (S4RC).

Add an “s” to the word “title” in paragraph #1.

Delete “Notices, SSI Interfaces and SSI” from paragraph #1 after the words “XVI (SSI) and VIII” and before the words “Management Information.”

Add “Disability, Appeals and Representative Payee” to paragraph #1 after the words “XVI (SSI) and VIII” and before the words “Management Information.”

Add “Systems.” to paragraph #1 after the words “Management Information.”

Delete “Notices, SSI Interfaces and SSI” from the first sentence of paragraph #3 after the words “as they relate to SSI,” and before the words “Management Information.”

Add “Disability, Appeals and Representative Payee” to the first sentence of paragraph #3 after the words “as they relate to SSI,” and before the words “Management Information.”

Replace Paragraph 5 in its entirety as follows:

5. Produces automated solutions that provide management information (MI) supporting the Agency's Supplemental Security Income program. Designs, develops and maintains computer systems that collect, process and distribute SSI MI.

Renumber paragraph:

6. to 9.

7. to 10.

8. to 11.

Add:

6. Produces automated solutions that provide MI supporting the Agency's Disability Insurance program. Designs, develops and maintains computer systems that collect, process and distribute Disability MI.

7. Produces automated solutions that provide MI supporting the Agency's Hearings, Appeals and Litigation workloads. Designs, develops and maintains computer systems that collect, process and distribute Title II and Title XVI Hearings, Appeals and Litigation MI.

8. Produces automated solutions that provide MI supporting the Agency's Representative Payment program. Designs, develops and maintains computer systems that collect, process and distribute Representative Payment MI.

Delete “Notices, SSI Interfaces and SSI” in the first sentence of paragraph 9 after the words “affecting SSI” and before the words “Management Information.”

Add “, Disability, Appeals, and Representative Payment” to the first sentence of paragraph 9 after the words “affecting SSI” and before the words “Management Information.”

Delete “Notices, SSI Interfaces and SSI” in paragraph #10 after the words “existing SSI” and before the words “Management Information.”

Add “, Disability, Appeals and Representative Payment” to paragraph #10 after the words “existing SSI” and before the words Management Information.”

Add “systems” to paragraph #10 after the words “Management Information” and before the words “process with representatives”.

Add an “es” to the word “process” in paragraph #10 after the words “Management Information systems” and before the words “with representatives.”

I. The Division of Disability Information Systems (S4RH)

Replace paragraph #1 in its entirety as follows:

Plans, analyzes, designs, develops, tests, implements and maintains new or redesigned quality assurance systems in support of the Office of Quality Assurance. These systems support Title II, Title XVI and disability workloads and monitor all levels (initial, reconsideration and hearing) of Social Security program administration, including the federally legislated pre-effectuation (PER) review.

Delete paragraph #2 in its entirety.

Renumber paragraph:

3. to 2.

4. to 3.

5. to 4.

6. to 5.

7. to 6.

8. to 7.

9. to 8.

10. to 9.

11. to 10.

Add “and Quality Assurance” to the first sentence of paragraph #4 after the words “and Rep Payee” and before the second sentence.

Add “and Quality Assurance” to paragraph #6 after the words “for Rep Payee.”

Add “and Quality Assurance” to the first sentence of paragraph #7 after the words “Rep Payee” and before the second sentence.

Add “and Quality Assurance” to paragraph #8 after the words “Rep Payee” and before the words “process with representatives.”

Add an “es” to the word “process” in paragraph #8.

Add:

11. Coordinates the development and testing of Continuity of Operations Plans (COOP).

12. Manages routine and complex security-related compliance activities and develops sensitive standardized security profiles procedures.

13. Grants and approves the administrative and physical controls to SSA systems to prevent unauthorized access and physical damage, disclosure and destruction to SSA's system of records.

14. Develops and maintains system security risk assessments and security plans implementing security standards, regulations, requirements and any additional changes in legislative policy or procedure.

J. The Division of Electronic Processing Support (S4RJ)

Add the word “Disability” to paragraph #1 after the words “Hearings, Appeals, Litigation,” and before the words “and Customer Help.”

Add the word “Disability” to the first sentence in paragraph #3 after the words “Hearings, Appeals, Litigation,” and before the words “and CHIP.”

Add the word “Disability” to paragraph #5 after the words “Hearings, Appeals, Litigation,” and before the words “and CHIP.”

Add the word “Disability” to the first sentence in paragraph #6 after the words “Hearings, Appeals, Litigation,” and before the words “and CHIP software.”

Add the word “Disability” to paragraph #7 after the words “Hearings, Appeals, Litigation,” and before the words “and CHIP processes.”

Dated: April 5, 2004.
Reginald F. Wells,
Deputy Commissioner for Human Resources.

[FR Doc. 04-8136 Filed 4-9-04; 8:45 am]

BILLING CODE 4191-02-P